DEPARTMENT OF THE INTERIOR

Bureau of Land Management

[NV-056-5853-EU; N-66686 and N-84735; 8-08807; TAS: 14X5232]

Notice of Realty Action: Modified Competitive Sealed Bid Sale of Public Lands in Clark County, NV

AGENCY: Bureau of Land Management, Interior.

ACTION: Notice.

SUMMARY: The Bureau of Land Management (BLM) proposes to offer by modified competitive sealed bid sale three parcels of land totaling approximately 20 acres in the Las Vegas Valley at not less than the fair market value (FMV). The three parcels will be offered in two sales to be conducted pursuant to the Southern Nevada Public Land Management Act of 1998 (SNPLMA), Public Law 105-263, 112 Stat. 2343, as amended. The SNPLMA sales will be subject to the applicable provisions of Sections 203 and 209 of the Federal Land Policy and Management Act of 1976 (FLPMA), 43 U.S.C. 1713 and 1719, respectively, and BLM land sale and mineral conveyance regulations at 43 CFR 2710 and 2720.

DATES: Written comments regarding the proposed sale or the environmental assessment (EA) will be accepted until May 12, 2008. The FMV will be made available prior to the sealed bid closing date. BLM will accept sealed bids for the offered parcels until May 28, 2008, at 4:30 p.m., Pacific Time, at the Las Vegas Field Office. Sealed bids will be opened at the Las Vegas Field Office on May 29, 2008, at 10 a.m., Pacific Time.

ADDRESSES: Mail written comments and sealed bids to the BLM Field Manager, Las Vegas Field Office, 4701 N. Torrey Pines Drive, Las Vegas, NV 89130.

FOR FURTHER INFORMATION CONTACT: Brenda Wilhight, e-mail: Brenda_Wilhight@nv.blm.gov or phone: (702) 515-5172.

SUPPLEMENTARY INFORMATION: The following described lands are located in southwest Las Vegas, Nevada and are legally described as:

Case file: N-66686

Mount Diablo Meridian, Nevada

T. 22 S., R. 60 E.,

Sec. 23, SE¼SE¼NW¼NW¼, N½NE¼SW¼NW¼, N½NE¼NW¼SE¼NW¼, N½NW¼NW¼SE¼NW¼.

The above described lands contain 10 acres, more or less.

Case file: N-84735

Mount Diablo Meridian, Nevada

T. 23 S., R. 61 E.,

Sec. 9, N½NE¼SE¼NW¼, S½SE¼SE¼NW¼.

The above described lands in two parcels contain 10 acres, more or less.

The sales are in conformance with the Las Vegas Resource Management Plan (RMP), approved on October 5, 1998. BLM has determined that the proposed action conforms to the land use plan decision, LD-1, in the RMP.

The use of the modified competitive sale method is consistent with 43 CFR 2711.3-2(a)(1)(i). Public lands may be offered for sale utilizing modified competitive bidding procedures when the authorized officer determines it is necessary in order to assure equitable distribution of land among purchasers or to recognize equitable considerations or public policies. Modified competitive bidding includes, but is not limited to offering designated bidders the right to meet the highest bid. Refusal or failure to meet the highest bid shall constitute a waiver of such bidding provisions. Factors to be considered in determining when modified competitive bidding procedures shall be used include but are not limited to the needs of State and/or local government, adjoining landowners, historical users, and other needs for the tract. A description of the method of modified competitive bidding to be used and a statement indicating the purpose or objective of the bidding procedure selected is specified in this notice.

To participate in either modified competitive sale each bidder, including the designated bidders, must submit a $20,000 bid guarantee deposited by a certified check, postal money order, bank draft, or cashier's check made payable to the Bureau of Land Management. Sealed bids for each sale in an amount not less than 20 percent of the total amount must also be accompanied by a certified check, postal money order, bank draft, or cashier's check made payable to the Bureau of Land Management. The bid guarantee and sealed bid amounts may be submitted in one form of deposit, but must be specified. Personal checks will not be accepted. Sealed bid envelopes must be clearly marked on the front lower left corner with “SEALED BID BLM LAND SALE, May 29, 2008”, and the identification number of the parcel “BLM SERIAL NUMBER N-66686” or “BLM SERIAL NUMBER N-84735.” The bid envelope must also contain the completed BLM form, Certificate of Eligibility, stating the name, mailing address, and phone number of the entity/person making the bid.

Sealed bids will be opened and recorded to determine the high bidder on May 29, 2008, 10 a.m., Pacific Time at the Las Vegas Field Office. The highest qualifying bidder among the qualified bids received for each sale will be declared. Each modified competitive sale allows the designated bidder the right to meet the high bid.

For parcel N-66686, Clark County supports a request by the Brasher Group, which is owned by Donald E. Brasher, for a modified competitive sale. Mr. Brasher, under the corporate names Tootalou I LLC, Tootalou II LLC, and Mountain Blue III LLC, owns the abutting properties on the north, east, and west boundaries of the parcel. The parcel provides frontage to Blue Diamond Highway. This frontage is necessary to Mr. Brasher's development of his private lands. In consideration of the adjoining landowner and historical uses of the parcel, the authorized officer has determined Mr. Brasher as the designated bidder for this parcel.

For N-84735, the City of Henderson supports a request by Marnell Properties LLC for a modified competitive sale. The sale parcels are bordered on the north, west, and south side by land owned by Mr. Anthony A. Marnell, III. Mr. Marnell and the City have developed an agreement that provides long-term public benefits to the City and local residents. Through collaboration and partnership with the City of Henderson, Marnell Properties LLC agrees to provide off-site utility and roadway improvements, including major roadway improvements, fire station, public parking garage, convention center, and a public park. Marnell Properties LLC will construct the Haven/Bowes connector road and adjoining Pittman North detention basin. In consideration of the adjoining landowner, the historical uses of the parcel, and the local government, the authorized officer has determined Mr. Marnell as the designated bidder for this parcel.

The designated bidders or their authorized representative must be present at the bid opening on May 29, 2008, at 10 a.m., Pacific Time. Should the designated bidders appoint a representative for this sale, they must submit in writing a notarized document identifying the level of capacity given to their designated representative. This document must be signed by both parties. The designated bidder or their authorized representative will have the opportunity to meet and accept the high bid as the purchase price of each parcel or to refuse that offer. Should the designated bidders or their authorized representative refuse the offer, the high bid received through sealed bid will be declared the successful bid in accordance with regulations at 43 CFR 2711.3-2(c). Acceptance or rejection of any offer to purchase will be in accordance with the procedures set forth in 43 CFR 2711.3-1(f) and (g) of this subpart.

All funds submitted with sealed bids will be returned to the unsuccessful bidders upon presentation of photo identification at the designated area. Each successful bidder may elect a refund of or to apply the $20,000 bid guarantee in addition to the required 20 percent bid deposit toward the purchase price. Failure to submit the bid deposit following a successful bid will result in forfeiture of the bid guarantee under 43 CFR 2711.3-1(d).

The successful bidder will be allowed 180 days from the date of the sale, November 25, 2008, to submit the remainder of the full bid price declared in the form of a certified check, postal money order, bank draft, or cashier's check made payable to the Bureau of Land Management. Personal checks will not be accepted. Arrangements for electronic fund transfer to BLM for the payment balance due on or before November 25, 2008, shall be made a minimum of two weeks prior to the payment date. Failure to submit the full bid price prior to the expiration of the 180th day following the sale date will result in the forfeiture of the 20 percent bid deposit to the BLM in accordance with 43 CFR 2711.3-1(d). No exceptions will be made. If there are no acceptable bids, the parcel may remain available for sale on a continuing basis in accordance with the competitive sale procedures described in 43 CFR 2711.3-1 without further legal notice. Unsold parcels may be offered for sale in a future internet auction. Internet auction procedures are available at http://www.auctionrp.com. If unsold on the Internet, parcels may be offered for sale in the future without additional legal notice.

Terms and Conditions: Certain minerals will be reserved to the United States in accordance with BLM approved Mineral Potential Report, dated January 22, 1999. Information pertaining to the reservation of minerals specific to the parcels is located in the case files. Acceptance of the offers to purchase these parcels will constitute an application for conveyance of unreserved mineral interests. These unreserved mineral interests have been determined to have no known mineral value pursuant to 43 CFR 2720.0-6 and 2720.2(a). In conjunction with the final payment, the applicant for these “no known value” mineral interests will be required to pay a $50 non-refundable filing fee for processing the conveyance of these mineral interests which will be sold simultaneously with the surface interests.

The conveyances issued would contain the following numbered reservations, covenants, terms, and conditions:

1. Discretionary leasable and saleable mineral deposits on the lands, if any, reserved to the United States, its permittees, licensees, and lessees together with the right to prospect for, mine, and remove such minerals under applicable law and any regulations that the Secretary of the Interior may prescribe, together with all necessary access and exit rights;

2. A right-of-way is reserved for ditches and canals constructed by authority of the United States under the Act of August 30, 1890 (43 U.S.C. 945);

3. A right-of-way for federal aid highway (Blue Diamond Road) purposes reserved to the Federal Highway Administration, its successors and assigns, by right-of-way No. Nev-012728, pursuant to the Act of August 27, 1958 (23 U.S.C. 107) [within sale parcel N-66686];

4. The parcels are subject to valid existing rights;

5. By accepting this patent, the patentee agrees to indemnify, defend and hold the United States harmless from any costs, damages, claims, causes of action, penalties, fines, liabilities, and judgments of any kind or nature arising from the past, present, and future acts or omissions of the patentees, its employees, agents, contractors, or lessees, or any third-party, arising out of, or in connection with, the patentees use, occupancy, or operations on the patented real property. This indemnification and hold harmless agreement includes, but is not limited to, acts and omissions of the patentees, its employees, agents, contractors, or lessees, or third party arising out of or in connection with the use and/or occupancy of the patented real property resulting in: (1) Violations of Federal, state, and local laws and regulations applicable to the real property; (2) Judgments, claims or demands of any kind assessed against the United States; (3) Costs, expenses, damages of any kind incurred by the United States; (4) Other releases or threatened releases on, into or under land, property and other interests of the United States by solid or hazardous waste(s) and/or hazardous substance(s), as defined by Federal or state environmental laws; (5) Other activities by which solid or hazardous substances or wastes, as defined by Federal and state environmental laws were generated, released, stored, used or otherwise disposed of on the patented real property, and any cleanup response, remedial action, or other actions related in any manner to said solid or hazardous substances or wastes; (6) Or natural resource damages as defined by Federal and state law. This covenant shall be construed as running with the patented real property, and may be enforced by the United States in a court of competent jurisdiction; and

6. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

The parcels are subject to reservations for roads, public utilities and flood control purposes in accordance with the local governing entities' transportation plans.

No warranty of any kind, express or implied, is given by the United States as to title, whether or to what extent the land may be developed, its physical condition, future uses, or any other circumstance or condition. The conveyance of these parcels will not be on a contingency basis.

The parcels may be subject to land use applications received prior to publication of this notice if processing the application would have no adverse effect on the marketability of title, or the FMV of the parcels. Encumbrances of record, appearing in the case files for the parcels offered for sale, are available for review during business hours, 7:30 a.m. to 4:30 p.m. Pacific Time, Monday through Friday, at the Las Vegas Field Office, except during federally recognized holidays.

On publication of this notice and until completion of the sale, the BLM is no longer accepting land use applications affecting the identified land, except applications for the amendment of previously filed right-of-way applications or existing authorizations to increase the term of the grant in accordance with 43 CFR 2807.15 and 2886.15. Land use applications may be considered after completion of the sale for these parcels if the parcels are not sold.

BLM will notify valid existing right-of-way holders of their ability to convert their compliant rights-of-way to perpetual rights-of-way or easements. Each valid holder will be notified in writing of their rights and then must apply for the conversion of their current authorization.

Federal law requires that bidders must be: (a) A citizen of the United States 18 years of age or over; (b) a corporation subject to the laws of any State or of the United States; (c) a State, State instrumentality or political subdivision authorized to hold real property; and (d) an entity legally capable of conveying and holding lands or interests therein, under the laws of the State within which the lands to be conveyed are located. Where applicable, the entity shall also meet the requirements of paragraphs (a) and (b) of this section. U.S. citizenship is evidenced by presenting a birth certificate, passport, or naturalization papers. Failure to submit the above requested documents by June 30, 2008, shall result in the cancellation of the sale.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the Las Vegas Field Office prior to 30 days before the bidder's scheduled closing date. There are no exceptions.

Within 30 days of the sale, BLM will in writing, either accept or reject all bids received. Pursuant to 43 CFR 2711.3-1, a bid is the bidder's offer to BLM to purchase the parcel. No contractual or other rights against the United States may accrue until BLM officially accepts the offer to purchase, and the full bid price is submitted by the 180th day following the sale. All name changes and supporting documentation must be received at the Las Vegas Field Office by June 30, 2008, 4:30 p.m., Pacific Time. Otherwise, the patent will be issued to the name(s) on the bidder statement that's completed and submitted by May 29, 2008. To change the name on the bidder statement, high bidders must notify the Las Vegas Field Office in writing, and submit a new bidder statement, which is available at the Las Vegas Field Office or in the sale brochure, and be completed by the intended patentee.

BLM will not sign any documents related to 1031 Exchange transactions. The timing for completion of the exchange is the bidder's responsibility in accordance with Internal Revenue Services regulations. BLM is not a party to any 1031 Exchange.

In order to determine the FMV, certain assumptions may have been made of the attributes and limitations of the land and potential effects of local regulations and policies on potential future land uses. Through publication of this notice the BLM advises that these assumptions may not be endorsed or approved by units of local government. It is the buyer's responsibility to be aware of all applicable Federal, State, and local government laws, regulations and policies that may affect the subject lands, including any required dedication of lands for public uses. It is the buyer's responsibility to be aware of existing or projected use of nearby properties. When conveyed out of Federal ownership, the lands will be subject to any applicable laws, regulations, and policies of the applicable local government for proposed future uses. It will be the responsibility of the purchaser to be aware through due diligence of those laws, regulations, and policies, and to seek any required local approvals for future uses. Buyers should also make themselves aware of any Federal or state law or regulation that may impact the future use of the property. Any land lacking access from a public road or highway will be conveyed as such, and future access acquisition will be the responsibility of the buyer.

SNPLMA parcels proposed for sale were analyzed in the “Las Vegas Land Disposal Boundary Environmental Impact Statement,” approved December 23, 2004 (EIS), which is available for review at the Las Vegas Field Office. These parcels identified in this notice are analyzed in an EA for the sale which tiers to the EIS.

Information concerning the sale, appraisals, reservations, sale procedures and conditions, CERCLA, maps delineating the individual sale parcels, the FMV of each parcel, mineral potential report, EA, and other environmental documents will be available for review at the Las Vegas Field Office, or by calling (702) 515-5000 and asking to speak to a member of the sales team.

Public Comments: The parcels of land will not be offered for sale prior to the 60-day publication of this notice. For a period until May 12, 2008, interested parties may submit written comments to the Las Vegas Field Office. Only written comments submitted by postal service or overnight mail will be considered as properly filed. Electronic mail, facsimile or telephone comments will not be considered as properly filed.

Before including your address, phone number, e-mail address, or other personal identifying information in your comment, you should be aware that your entire comment—including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any adverse comments, this realty action will become the final determination of the Department of the Interior.

(Authority: 43 CFR part 2711)

Angie Lara,
Las Vegas Field Office Manager.

[FR Doc. E8-6353 Filed 3-27-08; 8:45 am]

BILLING CODE 4310-HC-P